DEPARTMENT OF TRANSPORTATION

Federal Railroad Administration

[Docket No. FRA 2011-001-N-12]

Proposed Agency Information Collection Activities; Comment Request

AGENCY: Federal Railroad Administration.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than November 7, 2011.

ADDRESSES: Submit written comments on any or all of the following proposed activities by mail to either: Mr. Robert Brogan, Office of Safety, Planning and Evaluation Division, RRS-21, Federal Railroad Administration, 1200 New Jersey Ave., SE., Mail Stop 25, Washington, DC 20590, or Ms. Kimberly Toone, Office of Information Technology, RAD-20, Federal Railroad Administration, 1200 New Jersey Ave., SE., Mail Stop 35, Washington, DC 20590. Commenters requesting FRA to acknowledge receipt of their respective comments must include a self-addressed stamped postcard stating, “Comments on OMB control number 2130-0571.” Alternatively, comments may be transmitted via facsimile to (202) 493-6216 or (202) 493-6497, or via e-mail to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 25, Washington, DC 20590 (telephone: (202) 493-6292) or Ms. Kimberly Toone, Office of Information Technology, RAD-20, Federal Railroad Administration, 1200 New Jersey Ave., SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Occupational Noise Exposure for Railroad Operating Employees.

OMB Control Number: 2130-0571.

Abstract: The collection of information is used by FRA to ensure that railroads covered by this rule establish and implement—by specified dates—noise monitoring, hearing conservation, and audiometric testing programs, as well as hearing conservation training programs, to protect their employees against the damaging and potentially dangerous effects of excessive noise in the everyday rail environment.

Affected Public: Businesses.

Respondent Universe: 460 railroads.

Frequency of Submission: On occasion.

Reporting Burden:

CFR Section | Respondent universe | Total annual responses | Average time per response | Total annual burden hours
227.9—Waivers | 460 Railroads | 5 petitions | 60 minutes | 5 hours.
227.103—Noise Monitoring Program | 460 Railroads | 460 programs | 2 hours/8 hours 600 hours | 5,165 hours.
—Notification of Employee of Monitoring | 460 Railroads | 905 lists | 30 minutes | 453 hours.
227.107—Hearing Conservation Program (HCP) | 460 railroads | 461 HCPs | 150 hrs/2 hrs/31 hrs | 2,875 hours.
—Revised Hearing Conservation Programs (HCPs) | 460 railroads | 92 HCPs | /7.5 hours 1.74 hours | 160 hours.
227.109—Audiometric Testing Program—Existing Employees—Baseline Audiograms | 78,000 Employees | 60,000 audiograms + 6,000 a-grams | 7 minutes + 25 minutes | 7,000 hours + 2,500 hours.
—Periodic Audiograms | 78,000 Employees | 8,000 a-grams 2,330 eval. + 93 retests | 25 minutes 6 min./2.5 hrs | 3,333 hours.
—Evaluation of Audiograms |  |  |  | 466 hours.
—Problem Audiograms | 78,000 Employees | 45 documents 93 notices | 10 minutes 15 minutes | 8 hours 24 hours.
—Follow-up Procedures—Notifications
—Fitting/Training of Employees: Hearing Protectors | 8,000 Employees | 240 tr. session | 2 minutes | 8 hours.
—Referrals For Clinical/Otological Examinations | 8,000 Employees | 20 referrals | 2 hours | 40 hours.
—Notification to Employee of Need: Otological Examination | 240 Employees | 20 notices | 5 minutes | 2 hours.
—New Audiometric Interpretation | 240 Employees | 20 notices | 5 minutes | 2 hours.
227.111—Audiometric Test Requirements | 1,000 Mobile Vans | 1,000 tests | 45 minutes | 750 hours.
227.117—Hearing Protection Attenuation—Evaluation | 460 Railroads | 50 evaluations | 30 minutes | 25 hours.
—Re-Evaluations | 460 Railroads | 10 reevaluations | 30 minutes | 5 hours.
227.119—Hearing Conservation Training Program—Development | 460 Railroads/AAR | 441 programs | 8 hours/2 hours/116 hours/1 hour 30 minutes | 706 hours.
—Employee Training | 460 Railroads | 26,000 tr. Empl |  | 13,000 hours.
—Periodic Training | 460 Railroads | 7,000 tr. Empl. | 30 minutes | 3,500 hours.
227.121—Record Keeping—Authorization: Records | 460 Railroads | 10 requests + 10 Responses | 10 min. + 15 min. | 5 hours.
—Request for Copies of Reports | 460 Railroads | 150 requests + 150 resp. | 21 min. + 45 min. | 166 hours.
—Records Transfer When Carrier Becomes Defunct | 460 Railroads | 10 records | 24 minutes | 4 hours.
—Railroad Audiometric Test Records | 460 Railroads | 26,000 records | 2 minutes | 867 hours.
—Hearing Conservation Program (HCP) Records | 460 Railroads | 54,000 records | 45 seconds | 675 hours.
—HCP Training Records of Employees | 460 Railroads | 26,000 records | 30 seconds | 217 hours.
—Records: Standard Threshold Shifts of Employees | 460 Railroads | 280 records | 7 minutes | 33 hours.
229.121—Locomotive Cab Noise—Tests/Certifications | 3 Equipment Manufacturers | 700 tests/rcds. | 40 min. + 5 min. | 111 hours.
—Equipment Maintenance: Excessive Noise Reports | 460 Railroads | 3,000 reports + 3,000 records | 10 min. + 5 min. | 750 hours.
—Maintenance Records | 460 Railroads | 3,750 records | 8 minutes | 500 hours.
—Internal Auditable Monitoring Systems | 570 Railroads | 570 systems | 36 min. + 8.25 hours | 572 hours.
Appendix H—Static Test Protocols/Records | 700 Locomotives | 2 retests + 2 records | 35 min. + 5 min. | 1 hour.

Total Responses: 230,919.

Estimated Total Annual Burden: 43,928 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on September 2, 2011.
Kimberly Coronel,
Director, Office of Financial Management, Federal Railroad Administration.

[FR Doc. 2011-23007 Filed 9-7-11; 8:45 am]

BILLING CODE 4910-06-P